DEPARTMENT OF ENERGY

Federal Energy Regulatory Commission

[Docket No. EL05-145-000]

Emergency Petition and Complaint of the District of Columbia Public Service Commission; Notice of Proposed Restricted Service List

September 23, 2005.

Rule 2010 of the Federal Energy Regulatory Commission's (Commission) Rules of Practice and Procedure provides that, to eliminate unnecessary expenses or improve administrative efficiency, the Secretary may establish a restricted service list for a particular proceeding.¹ A restricted service list contains the names of persons who, in the judgment of the decisional authority establishing the list, are active participants with respect to the phase or issue in the proceeding for which the restricted service list is established.

¹ 18 CFR 385.2010(d) (2005).

Any person on the current official service list for the above-captioned proceedings may request inclusion on the restricted service list, or may request that a restricted service list not be established, by filing a motion stating the reason for the request within 15 days of the date of this notice.

The Commission strongly encourages electronic filings. The motions described above may be filed electronically via the Internet. See 18 CFR 385.2001(a)(1)(iii) and the instructions on the Commission's Web site under the eFiling link at http://www.ferc.gov. If a person cannot file a motion electronically, an original and 14 copies of any such motions must be filed with Magalie R. Salas, Secretary of the Commission, at 888 First Street, NE., Washington, DC, 20426. All motions, electronic or paper, must be served on each person whose name appears on the current official service list in the above-docketed proceeding. If no such motions are filed, the restricted service list will be effective at the end of the 15-day period. Otherwise, a further notice will be issued ruling on any motion or motions filed within the 15-day period.

Magalie R. Salas,
Secretary.

[FR Doc. E5-5367 Filed 9-30-05; 8:45 am]

BILLING CODE 6717-01-P